DEPARTMENT OF TRANSPORTATION

Federal Transit Administration

Intent To Prepare an Environmental Impact Statement for the Gateway Corridor Project From Saint Paul to Woodbury in Ramsey to Washington Counties, MN

AGENCY: Federal Transit Administration (FTA), Department of Transportation (DOT).

ACTION: Notice of intent to prepare an environmental impact statement (EIS).

SUMMARY: The Federal Transit Agency (FTA), as the lead federal agency, the Washington County Regional Railroad Authority (WCRRA), and the Metropolitan Council intend to prepare an Environmental Impact Statement (EIS) for the proposed Gateway Corridor project. The Gateway Corridor project is a planned transitway approximately 12 miles in length located in Ramsey and Washington Counties in the eastern part of the Twin Cities Metropolitan Area, Minnesota. The project is located in a corridor generally parallel to Interstate 94 (I-94) and will better connect downtown Saint Paul with its east side neighborhoods and the suburban cities of Maplewood, Landfall, Oakdale, Lake Elmo, and Woodbury. More broadly, the Gateway Corridor project will better connect the eastern Twin Cities Metropolitan Area to the regional transit network via the Union Depot multimodal hub in downtown Saint Paul. The project is also intended to serve and draw ridership from other portions of the metropolitan area, including portions of eastern Washington County and western St. Croix County (Wisconsin) to the east, Dakota County to the south, and the city of Minneapolis and Hennepin County to the west.

The EIS will be prepared in accordance with the requirements of the National Environmental Policy Act (NEPA) and its implementing regulations with FTA as the lead agency. The purpose of this notice is to alert interested parties of the intent to prepare the EIS; to provide information on the nature of the proposed action and possible alternatives; to invite public participation in the EIS process, including comments on the scope of the Draft EIS proposed in this notice; and to announce that public and agency scoping meetings will be conducted.

DATES: Written comments on the scope of the EIS, submitted by email or regular mail, must be received no later than April 16, 2014, and must be sent to Andy Gitzlaff. See ADDRESSES below for the location to which written comments may be submitted. Public scoping meetings to accept comments on the scope of the EIS will be held on the following dates:

Monday, March 24, 2014, from 4:30 to 6:30 p.m., at Guardian Angels Catholic Church (8260 4th Street N, Oakdale, MN 55128).

Tuesday, March 25, 2014, from 4:30 to 6:30 p.m., at Conway Recreation Center (2090 Conway Avenue, Saint Paul, MN 55119).

Comments will also be accepted at the Gateway Corridor Policy Advisory Committee meeting on Thursday, April 10, 2014, at 2:00 p.m. at Woodbury City Hall (8301 Valley Creek Road, Woodbury, MN 55125).

An interagency scoping meeting for agencies with interest in the project will be held on the following date:

Thursday, March 20, 2014, from 10:00 a.m. to 12:00 noon, at the Kimley-Horn and Associates, Inc. office (2550 University Avenue West, Suite 238N, Saint Paul, MN 55114).

All the scoping meetings will be accessible to persons with disabilities. If special translation services or other special accommodations are needed, please contact Andy Gitzlaff (see ADDRESSES below) at least 48 hours prior to the meeting. A Scoping information packet, providing information on the Gateway Corridor project including project purpose and need, as well as alternatives proposed for evaluation in the EIS, will be available at public Scoping meetings, and will also be available on the project Web site: http://www.thegatewaycorridor.com/. Paper copies of Scoping materials may also be obtained from Andy Gitzlaff (see ADDRESSES below).

ADDRESSES: Andy Gitzlaff, Project Manager, Washington County Public Works Department, 11660 Myeron Road North, Stillwater, MN 55082, Phone: (651) 430-4300, Email: Gateway Corridor@co.washington.mn.us, Fax: (651) 430-4350.

FOR FURTHER INFORMATION CONTACT: Maya Sarna, Environmental Protection Specialist, FTA Headquarters, Washington, DC, Phone: 202-366-5811, Email: maya.sarna@dot.gov.

SUPPLEMENTARY INFORMATION:

Scoping

The FTA, WCRRA, and Metropolitan Council invite all interested individuals and organizations, public agencies, and Native American Tribes to comment on the scope of the EIS for the proposed Gateway Corridor project, including the project's purpose and need, the alternatives to be studied, the environmental impacts to be evaluated, and the evaluation methods to be used. Comments should address: (1) Feasible alternatives that may better achieve the project's purpose and need with fewer adverse impacts, and (2) any significant social, economic, or environmental issues relating to the alternatives.

NEPA “scoping” has specific objectives: To identify the significant environmental issues associated with alternatives to be examined in detail, while also limiting consideration of issues that are not truly significant. It is in the NEPA scoping process that potentially significant environmental impacts, which give rise to the need to prepare an EIS, should be identified. Transit projects may also generate environmental benefits that should also be discussed.

Purpose and Need for the Project

The purpose of the Gateway Corridor project is to provide transit service to meet existing and long-term regional mobility and local accessibility needs for businesses and the traveling public within the project area.

Five factors contribute to the need for the Gateway Corridor project:

Limited transit service throughout the day and demand for more frequent service over a greater time span.

Policy shift toward travel choices and multimodal investments.

Population and employment growth, increasing access needs and travel demand.

Needs of people who depend on transit.

Local and regional objectives for growth.

Project Location and Environmental Setting

The project is located in Ramsey and Washington Counties, Minnesota. The character of the Gateway Corridor project area changes from an urban setting in downtown and the east side of Saint Paul to a transitional suburban/rural setting as it extends further east into the suburbs of Maplewood, Landfall, Oakdale, Lake Elmo, and Woodbury.

Alternatives Analysis

The Gateway Corridor Alternatives Analysis (AA) Study was completed by the Gateway Corridor Commission in February 2013. The AA Study evaluated a No-Build alternative and a range of Build alternatives, including a transportation system management alternative, a commuter rail alternative, light rail transit (LRT) alternatives, and bus rapid transit (BRT) alternatives on various alignments, including various alignments along East 7th Street in Saint Paul, and Hudson Road. All eight alternatives underwent detailed evaluation. At the end of the AA process, it was recommended that both BRT and LRT alternatives adjacent to Hudson Road move forward for consideration in the Draft EIS.

Information on the AA process will be available at scoping meetings/summarized in the Scoping Booklet. The results of an investigation of Gateway Corridor service on East 7th Street, as re-visited during early phases of Draft EIS scoping, will be made available for public review and comment. This will include the results of technical analyses used as the basis for decision-making by Gateway Corridor project technical and policy committees, supporting the findings made through the AA process that eliminated the East 7th Street alignment.

Proposed Alternatives

The following alternatives are currently under consideration for further study in the EIS:

No-Build Alternative. The No-Build Alternative serves as the NEPA baseline against which environmental effects of the Build alternatives are measured. It is defined as the 2030 transportation network with only those improvements already planned and programmed. The No-Build alternative does not include the Gateway Corridor project.

LRT Alternative. The LRT alternative would include several station stops between Union Depot in downtown Saint Paul and Manning Avenue in Woodbury, for a length of approximately 12 miles. LRT would generally travel in double-track, exclusive right-of-way (guideway) parallel to Interstate 94 (I-94) west of Interstate 694 (I-694), and adjacent to Hudson Road to the east. Between Woodbury Drive/Keats Avenue, there are two alignment options: One south of I-94 in vicinity of the frontage road/Hudson Road, and one north of I-94 along 4th Street North and Hudson Boulevard, before crossing I-94 near Woodbury Drive/Keats Avenue. The LRT Alternative would include tracks, stations and support facilities, as well as transit service for LRT and connecting bus routes.

BRT Alternative. The BRT alternative would generally include an exclusive, two-way busway in dedicated guideway. The length of the alignment would be approximately 12 miles, with several stations between Union Depot in downtown Saint Paul and Manning Avenue in Woodbury. BRT would generally travel parallel to I-94 to the west of I-694 and adjacent to Hudson Road to the east, similar to the LRT Alternative. The BRT Alternative would also include the same two alignment options between I-694 and Keats Avenue, as described above. It would include all facilities associated with the construction and operation of BRT, including right-of-way, travel lanes, stations, and support facilities, as well as transit service for BRT and connecting bus routes.

Potential Impacts for Analysis

The purpose of the EIS process is to study, in a public setting, the potentially significant effects of the proposed project on the quality of the human environment. Primary areas of investigation for this project may include, but might not be limited to: Transportation; land use and consistency with applicable plans; land acquisition and displacements; socioeconomic impacts; park and recreation resources; historic and cultural resources; environmental justice; visual and aesthetic qualities; air quality; noise and vibration; water quality, wetlands, and floodplains;, and ecosystems, including threatened and endangered species. Effects will be evaluated in the context of both short-term construction and long-term operation of the Gateway Corridor project. Direct project effects as well as indirect and cumulative effects on the environment will be addressed. The environmental analysis may reveal that the proposed project will not affect, or affect substantially, many of the primary areas of investigation. However, if any adverse impacts are identified, measures to avoid, minimize, or mitigate those adverse effects will be proposed.

Procedures for Public and Agency Involvement

The regulations implementing NEPA call for public involvement in the EIS Process. 23 U.S.C. 139 requires that FTA, WCRRA, and the Metropolitan Council do the following: (1) Extend an invitation to other federal and non-federal agencies and Native American tribes that may have an interest in the proposed project to become “participating agencies;” (2) provide an opportunity for involvement by participating agencies and the public to help define the purpose and need for the proposed project, as well as the range of alternatives for consideration in the EIS; and (3) establish a plan for coordinating public and agency participation in, and comment on, the environmental review process. An invitation to become a participating or cooperating agency, with Scoping materials appended, will be extended to other federal and non-federal agencies and Native American tribes that may have an interest in the proposed project. It is possible that FTA, WCRRA, and the Metropolitan Council will not be able to identify all federal and non-federal agencies and Native American tribes that may have such an interest. Any federal or non-federal agency or Native American tribe interested in the proposed project that does not receive an invitation to become a participating agency should notify at the earliest opportunity the Project Manager identified above under ADDRESSES.

A comprehensive public involvement program for public and agency involvement has been developed for the project and is available on the project Web site. The public involvement program includes a full range of activities including maintaining the project Web site and outreach to local officials, community and civic groups, and the general public.

Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received before the document is printed, at the latest, FTA and its grantees will distribute only the executive summary of environmental documents in printed form together with a compact disc (CD) that contains the complete environmental document. A complete printed set of the environmental documents will be available for review at the grantee's offices and elsewhere; an electronic copy of the complete environmental document will also be available on the grantee's Web site.

Marisol Simon,
Regional Administrator.

[FR Doc. 2014-03050 Filed 2-11-14; 8:45 am]

BILLING CODE P